GENERAL SERVICES ADMINISTRATION

[Notice-WW1-2014-03; Docket No. 2014-0003; Sequence No. 3]

World War One Centennial Commission; Notification of Upcoming Public Advisory Meeting

AGENCY: World War One Centennial Commission, GSA.

ACTION: Meeting Notice.

SUMMARY: Notice of this meeting is being provided according to the requirements of the Federal Advisory Committee Act, 5 U.S.C. App. 10(2). This notice provides the schedule and agenda for the July 27, 2014 meeting of the World War One Centennial Commission (the Commission). The meeting is open to the public.

DATES: Effective: July 14, 2014.

Meeting Date and Location: The meeting will be held on Sunday, July 27, 2014 starting at 8:30 a.m. Central Daylight Time (CDT), and ending no later than 10:30 a.m. Central Daylight Time (CDT). The meeting will be held at the National World War 1 Museum at Liberty Memorial, 100 W. 26th Street, Kansas City, MO 64108.

The meeting will also be made available telephonically. Persons wishing to listen to the proceedings may dial 712-432-1001 and enter access code 474845614#. Note this is not a toll-free number.

Matters To Be Considered

Agenda for July 27, 2014 Meeting

• Introductions and plans for today's meeting—Designated Federal Official (DFO).

• Welcome to Commissioner Seefried—DFO.

* Old Business:

Education Report—Commissioner O'Connell.

Program Report—Commissioner Fountain.

International Report—Commissioner Hester.

State Report—Commissioner Moe.

Fund Raising Report—Commissioner Valenzuela.

* New Business:

Election of Chairperson and Vice Chairperson—DFO. 30-minute public comment period for individuals pre-registered per instructions below. Each individual will be able to speak for no more than 5 minutes. Other business as may appropriately be brought by the Commissioners.

* Closing comments—Chairman.

Procedures for Public Participation

Contact Daniel S. Dayton at 202-380-0725 to register to comment during the meeting's 30-minute public comment period. Registered speakers/organizations will be allowed 5 minutes and will need to provide written copies of their presentations. Requests to comment at the meeting must be received by 5:00 p.m. Eastern Daylight Time, July 23, 2014. Written comments may be provided to Mr. Dayton at daniel.dayton@worldwar1centennial.org until 5:00 p.m. Eastern Daylight Time, July 23, 2014.

FOR FURTHER INFORMATION CONTACT: Daniel S. Dayton, Designated Federal Officer, c/o The Foundation for the Commemoration of the World Wars, 701 Pennsylvania Avenue NW., #123, Washington, DC 20004-2608, 202-380-0725 (note: this is not a toll-free number).

Written Comments may be submitted to the Commission and will be made part of the permanent record of the Commission. Comments must be received by 5:00 p.m. Eastern Daylight Time (EDT), July 23, 2014 and may be addressed to Mr. Dayton at daniel.dayton@worldwar1centennial.org.

SUPPLEMENTARY INFORMATION:

Background

The World War One Centennial Commission was established by Public Law 112-272, as a commission to ensure a suitable observance of the centennial of World War 1, to provide for the designation of memorials to the service of members of the United States Armed Forces in World War 1, and for other purpose. Under this authority, the Committee will plan, develop, and execute programs, projects, and activities to commemorate the centennial of World War 1, encourage private organizations and State and local governments to organize and participate in activities commemorating the centennial of World War 1, facilitate and coordinate activities throughout the States relating to the centennial of World War 1, serve as a clearinghouse for the collection and dissemination of information about events and plans for the centennial of World War 1, and develop recommendations for Congress and the President for commemorating the centennial of World War 1.

Dated: July 7, 2014.
Daniel Dayton,
Designated Federal Officer, World War 1 Commission.

[FR Doc. 2014-16323 Filed 7-11-14; 8:45 am]

BILLING CODE 6820-95-P